DEPARTMENT OF THE INTERIOR

National Park Service

Notice of Inventory Completion: Cosumnes River College, Los Rios Community College District, Sacramento, CA

AGENCY: National Park Service, Interior.

ACTION: Notice.

Notice is here given in accordance with the Native American Graves Protection and Repatriation Act (NAGPRA), 25 U.S.C. 3003, of the completion of an inventory of human remains in the possession of Cosumnes River College, Los Rios Community College District, Sacramento, CA. The human remains were removed from Sacramento County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Cosumnes River College professional staff in consultation with representatives of the Ione Band of Miwok Indians of California.

In the 1920s, human remains representing a minimum of two individuals were removed from the Gallup Farm in Wilton, Sacramento County, CA, by the daughter of the landowner, Bernice Gallup. In 1974, the human remains were given to David Abrams, professor of Anthropology, Cosumnes River College. The human remains were in Professor Abram's personal possession until his death in 2004. In September 2006, Professor Abram's widow donated the human remains to Cosumnes River College. No known individuals were identified. No associated funerary objects are present.

According to museum records, the Gallup Farm was a known Miwok burial ground and was traditionally and historically the aboriginal land of the Ione Miwok. A forensic analysis of the human remains was conducted in October 2006. Dental wear patterns are consistent with known Miwok remains. Consultation with a representative of the Ione Band of Miwok Indians of California confirmed the identification of the human remains as Miwok. Based on museum records, donor statements, osteological evidence, and geographical information the Cosumnes River College officials reasonably believe that the human remains are Native American dating from before 1920, and are Ione Miwok. Descendants of the Ione Miwok are members of the Ione Band of Miwok Indians of California.

Officials of the Cosumnes River College have determined that, pursuant to 25 U.S.C. 3001 (9-10), the human remains described above represent the physical remains of two individuals of Native American ancestry. Officials of the Cosumnes River College also have determined that, pursuant to 25 U.S.C. 3001 (2), there is a relationship of shared group identity that can be reasonably traced between the Native American human remains and the Ione Band of Miwok Indians of California.

Representatives of any other Indian tribe that believes itself to be culturally affiliated with the human remains should contact William Karns, Vice-President of Instruction, Cosumnes River College, 8401 Center Parkway, Sacramento, CA 95823, telephone (916) 691-7326, before April 16, 2007. Repatriation of the human remains to the Ione Band of Miwok Indians of California may proceed after that date if no additional claimants come forward.

Cosumnes River College is responsible for notifying the Buena Vista Rancheria of Me-Wuk Indians of California; California Valley Miwok Tribe, California; Cher-Ae Heights Indian Community of the Trinidad Rancheria, California; Chicken Ranch Rancheria of Me-Wuk Indians of California; Federated Indians of Graton Rancheria, California; Ione Band of Miwok Indians of California; Jackson Rancheria of Me-Wuk Indians of California; Picayune Rancheria of Chukchansi Indians of California; Santa Rosa Indian Community of the Santa Rosa Rancheria, California; Shingle Springs Band of Miwok Indians, Shingle Springs Rancheria (Verona Tract), California; Table Mountain Rancheria of California; Tule River Indian Tribe of the Tule River Reservation, California; Tuolumne Band of Me-Wuk Indians of the Tuolumne Rancheria of California; and United Auburn Indian Community of the Auburn Rancheria of California that this notice has been published.

Dated: February 13, 2007
Sherry Hutt,
Manager, National NAGPRA Program.

[FR Doc. E7-4731 Filed 3-14-07; 8:45 am]

BILLING CODE 4312-50-S